DEPARTMENT OF TRANSPORTATION

Federal Aviation Administration

14 CFR Part 71

[Docket FAA No. FAA-2013-0530; Airspace Docket No. 13-AWP-9]

Establishment of Class E Airspace; Battle Mountain, NV

AGENCY: Federal Aviation Administration (FAA), DOT.

ACTION: Final rule; correction.

SUMMARY: This action corrects a final rule published in the Federal Register of September 23, 2013, that establishes Class E airspace at the Battle Mountain VHF Omni-Directional Radio Range Tactical Air Navigational Aid (VORTAC) navigation aid, Battle Mountain, NV. A favorable comment from the National Business Aviation Association (NBAA) was received in the public Docket but was not referenced in the Final Rule.

DATES: Effective Date: 0901 UTC, December 12, 2013. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

The FAA published a final rule in the Federal Register establishing Class E airspace at the Battle Mountain VORTAC navigation aid, Battle Mountain, NV (78 FR 58159, September 23, 2013). The FAA received a comment in support of the rule from the NBAA for inclusion in FAA Docket No. FAA-2013-0530 prior to the closing of the comment period. However, the preamble incorrectly references that there were no comments to the proposal. This action corrects that statement.

Correction to Final Rule

Accordingly, pursuant to the authority delegated to me, the description under the History heading, as published in the Federal Register on September 23, 2013 (78 FR 58159), Airspace Docket No. 13-AWP-9, FR Doc. 2013-58159, is corrected as follows: On page 58160, column 1, line 2, remove “No comments were received.”, and add in their place “One comment was received from the National Business Aviation Association (NBAA) supporting the establishment of Class E en route airspace.”.

Issued in Seattle, Washington, on: November 6, 2013.
Clark Desing,
Manager, Operations Support Group, Western Service Center.

[FR Doc. 2013-27217 Filed 11-14-13; 8:45 am]

BILLING CODE 4910-13-P